DEPARTMENT OF HEALTH AND HUMAN SERVICES

National Institutes of Health

National Cancer Institute; Amended Notice of Meeting

Notice is hereby given of a change in the meeting of the National Cancer Institute Special Emphasis Panel; Proteogenomic Tumor Analysis, November 3, 2021, 9:30 a.m. to 7:00 p.m., National Cancer Institute at Shady Grove, Room 7W114, 9609 Medical Center Drive, Rockville, MD 20850 which was published in the Federal Register on August 26, 2021, FR Doc 2021-18399, 86 FR 47652.

This notice is being amended to change the meeting date from November 3, 2021 to December 1, 2021. The meeting times and location will stay the same. The meeting is closed to the public.

Dated: October 6, 2021.
Melanie J. Pantoja,
Program Analyst, Office of Federal Advisory Committee Policy.

[FR Doc. 2021-22213 Filed 10-12-21; 8:45 am]

BILLING CODE 4140-01-P